DEPARTMENT OF ENERGY

Federal Energy Regulatory Commission

Combined Notice of Filings

Take notice that the Commission has received the following Natural Gas Pipeline Rate and Refund Report filings:

Docket Number: PR21-13-000.

Applicants: Rocky Mountain Natural Gas LLC.

Description: § 284.123 Rate Filing: Negotiated Rate Agreement Filing (CFEi) to be effective 1/1/2021.

Filed Date: 12/30/20.

Accession Number: 202012305028.

Comments/Protests Due: 5 p.m. ET 1/20/2021.

Docket Numbers: RP21-341-000.

Applicants: Iroquois Gas Transmission System, L.P.

Description: § 4(d) Rate Filing: 122920 Negotiated Rates—Mercuria Energy America, LLC R-7540-02 to be effective 1/1/2021.

Filed Date: 12/29/20.

Accession Number: 20201229-5121.

Comments Due: 5 p.m. ET 1/11/21.

Docket Numbers: RP21-342-000.

Applicants: Algonquin Gas Transmission, LLC.

Description: § 4(d) Rate Filing: AGT Negotiated Rate—eff 12-30-2020 to be effective 12/30/2020.

Filed Date: 12/29/20.

Accession Number: 20201229-5141.

Comments Due: 5 p.m. ET 1/11/21.

Docket Numbers: RP21-343-000.

Applicants: Dauphin Island Gathering Partners.

Description: § 4(d) Rate Filing: Negotiated Rate Filing 12-29-2020 to be effective 1/1/2021.

Filed Date: 12/29/20.

Accession Number: 20201229-5179.

Comments Due: 5 p.m. ET 1/11/21.

Docket Numbers: RP21-344-000.

Applicants: Kinder Morgan Louisiana Pipeline LLC.

Description: § 4(d) Rate Filing: Rate Schedule ITS-Removal of Authorized Overrun Filing to be effective 2/1/2021.

Filed Date: 12/30/20.

Accession Number: 20201230-5001.

Comments Due: 5 p.m. ET 1/11/21.

Docket Numbers: RP21-345-000.

Applicants: Texas Eastern Transmission, LP.

Description: § 4(d) Rate Filing: TETLP EPC FEB 2021 FILING to be effective 2/1/2021.

Filed Date: 12/30/20.

Accession Number: 20201230-5030.

Comments Due: 5 p.m. ET 1/11/21.

Docket Numbers: RP21-346-000.

Applicants: NEXUS Gas Transmission, LLC.

Description: § 4(d) Rate Filing: Negotiated Rates—Various 1-1-2021 Releases to be effective 1/1/2021.

Filed Date: 12/30/20.

Accession Number: 20201230-5045.

Comments Due: 5 p.m. ET 1/11/21.

Docket Numbers: RP21-347-000.

Applicants: Algonquin Gas Transmission, LLC.

Description: § 4(d) Rate Filing: Negotiated Rate—Yankee Gas 510802 Release eff 12-31-2020 to be effective 12/31/2020.

Filed Date: 12/30/20.

Accession Number: 20201230-5077.

Comments Due: 5 p.m. ET 1/11/21.

Docket Numbers: RP21-348-000.

Applicants: Algonquin Gas Transmission, LLC.

Description: § 4(d) Rate Filing: AGT Negotiated Rates—Various Releases eff 1-1-2021 to be effective 1/1/2021.

Filed Date: 12/30/20.

Accession Number: 20201230-5147.

Comments Due: 5 p.m. ET 1/11/21.

Docket Numbers: RP21-349-000.

Applicants: Transcontinental Gas Pipe Line Company.

Description: § 4(d) Rate Filing: Negotiated Rates—Cherokee AGL—Replacement Shippers—Jan 2021 to be effective 1/1/2021.

Filed Date: 12/30/20.

Accession Number: 20201230-5155.

Comments Due: 5 p.m. ET 1/11/21.

Docket Numbers: RP21-350-000.

Applicants: El Paso Natural Gas Company, L.L.C.

Description: § 4(d) Rate Filing: Negotiated Rate Agreement Filing (CFEi) to be effective 1/1/2021.

Filed Date: 12/30/20.

Accession Number: 20201230-5217.

Comments Due: 5 p.m. ET 1/11/21.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: December 31, 2020.
Nathaniel J. Davis, Sr.,
Deputy Secretary.

[FR Doc. 2020-29328 Filed 1-6-21; 8:45 am]

BILLING CODE 6717-01-P